DEPARTMENT OF ENERGY

Federal Energy Regulatory Commission

[Docket No. RP01-314-000]

Williston Basin Interstate Pipeline Company; Notice of Tariff Filing

April 3, 2001.

Take notice that on March 30, 2001, Williston Basin Interstate Pipeline Company (Williston Basin), tendered for filing as part of its FERC Gas Tariff, Second Revised Volume No. 1, the revised tariff sheets listed on Appendix A to the filing, to become effective May 1, 2001.

Williston Basin states that, in order to provide its shippers with greater flexibility in managing their transportation and supply needs, Williston Basin is herein proposing to establish a new park and loan service under a new Rate Schedule PAL-1. Williston Basin envisions that the new park and loan service will enable the Company to accommodate the needs of its shippers in a manner not currently available under its existing tariff.

Williston Basin states that copies of the filing is being served upon the parties listed on the service list.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8593 Filed 4-6-01; 8:45 am]

BILLING CODE 6717-01-M